ENVIRONMENTAL PROTECTION AGENCY

[FRL OP-OFA-045]

Environmental Impact Statements; Notice of Availability

Responsible Agency: Office of Federal Activities, General Information 202-564-5632 or https://www.epa.gov/nepa.

Weekly receipt of Environmental Impact Statements (EIS)

Filed November 14, 2022 10 a.m. EST Through November 18, 2022 10 a.m. EST

Pursuant to 40 CFR 1506.9.

Notice: Section 309(a) of the Clean Air Act requires that EPA make public its comments on EISs issued by other Federal agencies. EPA's comment letters on EISs are available at: https://cdxapps.epa.gov/cdx-enepa-II/public/action/eis/search.

EIS No. 20220172, Draft, USACE, OR, Willamette Valley System Operations and Maintenance, Comment Period Ends: 01/19/2023, Contact: Nicklas Knudson 503-808-4739.

EIS No. 20220173, Final, NOAA, PRO, Surveying and Mapping Projects in U.S. Waters for Coastal and Marine Data Acquisition, Review Period Ends: 12/27/2022, Contact: Jay Nunenkamp 302-715-2405.

EIS No. 20220174, Final, BIA, DOI, WA, Confederated Tribes of the Colville Reservation Integrated Resource Management Plan 2015, Review Period Ends: 12/27/2022, Contact: Tobiah Mogavero 435-210-0509.

EIS No. 20220175, Draft, BIA, DOI, OR, Coquille Indian Tribe Fee to Trust Gaming Facility Project, Comment Period Ends: 01/09/2023, Contact: Tobiah Mogavero 435-210-0509.

EIS No. 20220176, Final, FERC, ID, GTN XPress Project, Review Period Ends: 12/27/2022, Contact: Office of External Affairs 866-208-3372.

EIS No. 20220177, Final, DOE, LA, ADOPTION—Commonwealth LNG Project, Contact: Amy Sweeney 202-586-2627. The Department of Energy (DOE) has adopted the Federal Energy Regulatory Commission's Final EIS No. 20220134, filed 9/9/2022 with the Environmental Protection Agency. The DOE was a cooperating agency on this project. Therefore, republication of the document is not necessary under Section 1506.3(b)(2) of the CEQ regulations.

Dated: November 18, 2022.
Cindy S. Barger,
Director, NEPA Compliance Division, Office of Federal Activities.

[FR Doc. 2022-25725 Filed 11-23-22; 8:45 am]

BILLING CODE 6560-50-P